DEPARTMENT OF LABOR

Office of the Secretary

Agency Information Collection Activities; Submission for OMB Review; Comment Request; National Agriculture Workers Survey

ACTION: Notice.

SUMMARY: The Department of Labor (DOL) is submitting the Employment and Training Administration (ETA) sponsored information collection request (ICR) revision titled, “National Agriculture Workers Survey,” to the Office of Management and Budget (OMB) for review and approval for use in accordance with the Paperwork Reduction Act (PRA) of 1995 (44 U.S.C. 3501 et seq.).

DATES: Submit comments on or before April 6, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for the Department of Labor, Employment and Training Administration, Office of Management and Budget, Room 10235, Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

SUPPLEMENTARY INFORMATION: The National Agriculture Workers Survey (NAWS) is an employment-based, annual survey of the demographic, employment, and health characteristics of hired crop farm workers, including workers brought to farms by labor intermediaries. Each year, approximately 1,500 workers are randomly selected for an interview. In addition, point of contact information is obtained from approximately 564 farms. Interviews are conducted three times per year to account for the seasonality of agricultural production and employment.

Several Federal agencies utilize the NAWS to meet their information collection needs. The Environmental Protection Agency, Office of Pesticide Programs (EPA-OPP), which has responsibility for assessing exposure to pesticides, is one such agency. With this submission, the DOL seeks OMB approval to administer seven new questions in the NAWS regarding the amount of time per day farm workers are employed in specific crops and tasks, and farm workers' hygiene and clothes laundering practices. The information obtained from the proposed questions will improve the EPA-OPP's ability to characterize the patterns of exposure, better assess pesticide risks posed to farm workers, and develop improved training and educational programs to manage the risks associated with exposure.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL obtains OMB approval for this information collection under OMB Control Number 1205-0453. The current OMB approval is scheduled to expire on October 31, 2013. For additional information, see the related notice published in the Federal Register on April 5, 2011.

Interested parties are encouraged to send comments to the OMB, Office of Information and Regulatory Affairs at the address shown in the ADDRESSES section within 30 days of publication of this notice in the Federal Register. In order to help ensure appropriate consideration, comments should reference OMB Control Number 1205-0453. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Title of Collection: National Agriculture Workers Survey.

OMB Control Number: 1205-0453.

Affected Public: Individuals or Households and Private Sector—Farms.

Total Estimated Number of Respondents: 2,064.

Total Estimated Number of Responses: 2,064.

Total Estimated Annual Burden Hours: 1,693.

Total Estimated Annual Other Costs Burden: $0.

Dated: March 1, 2012.
Michel Smyth,
Departmental Clearance Officer.

[FR Doc. 2012-5482 Filed 3-6-12; 8:45 am]

BILLING CODE 4510-FN-P